DEPARTMENT OF HEALTH AND HUMAN SERVICES

Administration for Children and Families

Office of Child Support Enforcement

45 CFR Parts 302, 303 and 307

RIN 0970-AC01

State Parent Locator Service; Safeguarding Child Support Information

AGENCY: Office of Child Support Enforcement (OCSE), Administration for Children and Families (ACF), Department of Health and Human Services.

ACTION: Delay of effective date.

SUMMARY: In accordance with the memorandum of January 20, 2009, from the Assistant to the President and Chief of Staff, entitled “Regulatory Review,” this action temporarily delays until May 22, 2009, the effective date of the final rule entitled “State Parent Locator Service; Safeguarding Child Support Information,” published in the Federal Register on September 26, 2008 [73 FR 56422]. The temporary delay in effective date is necessary to give Department officials the opportunity for further review of the issues of law and policy raised by this rule.

DATES: The effective date of the rule amending 45 CFR parts 302, 303, and 307, published in the September 26, 2008 Federal Register [73 FR 56422] is delayed until May 22, 2009.

FOR FURTHER INFORMATION CONTACT: Yvette Riddick, Office of Child Support Enforcement, Division of Policy, (202) 401-4885.

SUPPLEMENTARY INFORMATION:

I. Background

On September 26, 2008, we published a final rule following notice and comment period entitled “State Parent Locator Service; Safeguarding Child Support Information” in the Federal Register to address requirements for State Parent Locator Service responses to authorized location requests, State IV-D program safeguarding of confidential information, authorized disclosures of this information, and restrictions on the use of confidential data and information for child support purposes with exceptions for certain disclosures permitted by statute. The effective date given for the final rule was March 23, 2009.

In the March 3, 2009 Federal Register [74 FR 9171], we published a notice with comment period entitled, “State Parent Locator Service; Safeguarding Child Support Information: Proposed Delay of Effective Date.” That notice solicited public comments on a contemplated 60-day delay in the effective date of the September 26, 2008 final rule.

II. Provisions of This Action

This action delays the effective date of the September 26, 2008 final rule. The effective date of the September 26, 2008 final rule, which would have been March 23, 2009, is now May 22, 2009. The delay in the effective date is necessary to give Department officials the opportunity for further review of the issues of law and policy raised by the rule.

III. Comments Received in Response to the March 3, 2009 Notice

We received fifteen comments in response to the March 3, 2009 notice with comment period on the contemplated 60-day delay in effective date of the “State Parent Locator Service; Safeguarding Child Support Information” final rule. Although the March 3, 2009 notice invited comments generally on whether a delay in effective date was needed “to allow Department officials the opportunity for further review and consideration,” it also generated focused comments recommending changes to several particular substantive areas of the final rule. The commenters generally supported delaying the effective date, and as a result, we are delaying the effective date to May 22, 2009, to allow sufficient time for Department officials to review issues of law and policy raised by the rule.

A summary of the comments received follows.

Comments: Three commenters supported delaying the implementation date of the final rule. Two of the commenters stated that the delay was necessary to allow additional time to implement the new requirements and the other commenter supported a delay in the effective date of the rule to allow an additional 60 days for review. One State submitted a comment indicating that it did not need an extension of the effective date in order to implement the regulation.

Several comments addressed the substance of the rule rather than the effective date. One commenter indicated that the final rule appeared to prohibit the State IV-D agency from disclosing confidential information, such as child support payment records, to other State agencies, including the State food assistance (Food Stamps) program and the State revenue (Tax) program. Another commenter stated that a delay in the effective date would give the Administration an opportunity to conduct a review of the child welfare data exchange provisions of the rule to ensure that the provisions of the rule conform with The Fostering Connections to Success and Increasing Adoptions Act (Pub. L. 110-351), signed into law on October 7, 2008, after the rule was finalized.

Several commenters raised specific policy objections to the September 26, 2008 final rule. Two commenters raised concerns about the rules for disclosure of confidential location information. Another commenter stated that the regulations need to be reviewed and revised to assure significantly greater protection of that information from use for non-child support purposes.

Additionally, a number of commenters focused on the disclosure of information to an “agent of a child” and raised concerns that some private collection agencies may not actually serve the child's best interests and raised concerns that these private entities are not subject to ethics and confidentiality rules, such as those governing State agencies and attorneys, and there may be unintended adverse consequences of such disclosures.

Response: The Department believes that the comments received on the notice published in the Federal Register on March 3, 2009 [74 FR 9171] soliciting comments on the temporary delay in the effective date of the rule generally support a 60-day delay until May 22, 2009. Thus the Department is delaying the effective date of the final rule 60 days to allow sufficient time for Department officials to review issues of law and policy raised by the rule.

(Catalog of Federal Domestic Assistance Program No. 93.563, Child Support Enforcement)

Dated: March 17, 2009.
Charles E. Johnson,
Acting Secretary.

[FR Doc. E9-6165 Filed 3-19-09; 8:45 am]

BILLING CODE 4194-01-P